FEDERAL COMMUNICATIONS COMMISSION

[DA 06-2059]

Announcement of Change of Venue for November 3rd Consumer Advisory Committee Meeting

AGENCY: Federal Communications Commission.

ACTION: Notice.

SUMMARY: This document announces a change in venue for the November 3, 2006 meeting of the Consumer Advisory Committee (“Committee”). The purpose of the Committee is to make recommendations to the Federal Communications Commission (“Commission”) regarding consumer issues within the jurisdiction of the Commission and to facilitate the participation of all consumers in proceedings before the Commission.

DATES: The meeting of the Consumer Advisory Committee will take place on Friday, November 3, 2006 from 9 a.m to 4 p.m.

ADDRESSES: Verizon Communications, Inc., 1320 North Courthouse Rd., Arlington, VA, rooms Forum I and II.

FOR FURTHER INFORMATION CONTACT: Scott Marshall, (202) 418-2809 (voice), (202) 418-0179 (TTY) or e-mail: scott.marshall@fcc.gov.

SUPPLEMENTARY INFORMATION: This is a summary of the Commission's Public Notice, DA 06-2059, released on October 25, 2006, announcing a change in venue for the meeting of its Consumer Advisory Committee. The original date, time and agenda of the Committee's meeting was announced via Public Notice released on October 12, 2006 (DA 06-1998), as published in the Federal Register at 71 FR 61470 (October 18, 2006). This change of venue was necessary because of unforeseen circumstances which made adequate meeting facilities at the Commission's headquarters building unavailable.

A transcript of the meeting and minutes of the meeting will be available for public inspection at the Commission's headquarters building located at Portals II, 445 12th Street, SW., Washington, DC 20554. The Committee meeting will be open to the public and interested persons may attend the meeting and communicate their views. Members of the public will have an opportunity to address the Committee on issues of interest to both them and the Committee. The meeting site is fully accessible to people using wheelchairs or other mobility aids. Meeting agendas and handouts will be provided in accessible formats; sign language interpreters, open captioning, and assistive listening devices will be provided on site.

A copy of the October 19, 2006 Public Notice is available in alternate formats (Braille, cassette tape, large print or diskette) upon request. It is also posted on the Commission's Web site at www.fcc.gov/cgb/cac. If the public has any written comments for the Committee, please submit them to the Committee's Designated Federal Officer, Scott Marshall, Federal Communications Commission, Room 5-A824, 445 12th Street, SW., Washington, DC 20554.

Contact the Commission to request other reasonable accommodations for people with disabilities as early as possible. Please include a detailed description of any accommodations you seek and a way in which you can be contacted in case further information is needed by sending an e-mail to: fcc504@fcc.gov or call the Consumer and Governmental Affairs Bureau at (202) 418-0530 (voice), or (202) 418-0432 (TTY).

Federal Communications Commission.
Monica S. Desai,
Chief, Consumer and Governmental Affairs Bureau.

[FR Doc. E6-18287 Filed 10-31-06; 8:45 am]

BILLING CODE 6712-01-P